FEDERAL MINE SAFETY AND HEALTH REVIEW COMMISSION

Privacy Act of 1974; System of Records

AGENCY: Federal Mine Safety and Health Review Commission.

ACTION: Notice of a new system of records.

SUMMARY: In accordance with the Privacy Act of 1974, the Federal Mine Safety and Health Review Commission (FMSHRC) is creating a new notice of Privacy Act system of records FMSHRC-07. DATES: This new system of record is effective upon publication; however, comments on the Routine Uses will be accepted on or before June 27, 2024. The Routine Uses are effective at the close of the comment period.

ADDRESSES: You may submit comments by any of the following methods:

• Email: PrivacyAct@fmshrc.gov. Include “PRIVACY ACT SYSTEM OF RECORDS FMSHRC-07” in the subject line of the message.

• Mail: Privacy Act Coordinator, 1331 Pennsylvania Avenue NW, Suite 520N, Washington, DC 20004-1710.

Instructions: All submissions must include your name, return address, and email address, if applicable. Please clearly label submissions as “PRIVACY ACT SYSTEM OF RECORDS FMSHRC-07.”

FOR FURTHER INFORMATION CONTACT: Stacey George, Acting Senior Agency Official for Privacy, via telephone at (202) 434-9939 or via email at SGeorge@fmshrc.gov .

SUPPLEMENTARY INFORMATION: The Privacy Act of 1974, 5 U.S.C. 552a(e)(4), requires federal agencies such as FMSHRC to publish in the Federal Register notice of any new or modified system of records. As detailed below, FMSHRC is issuing a notice of a new system of records, Privacy Act Requests and Administrative Appeals Records FMSHRC-07, to describe the purpose of the system, to describe the records in the system, to specify the routine uses that apply to the system, and to describe the policies and practices for storing, retrieving, accessing, retaining, and disposing of records in the system.

The notice for FMSHRC-07, provided below in its entirety, is as follows.

SYSTEM NAME AND NUMBER:

Privacy Act Requests and Administrative Appeals Records, FMSHRC-07.

SECURITY CLASSIFICATION:

Unclassified.

SYSTEM LOCATION:

Federal Mine Safety and Health Review Commission, 1331 Pennsylvania Avenue NW, Suite 520N, Washington, DC 20004-1710.

SYSTEM MANAGER(S):

Senior Agency Official for Privacy, Federal Mine Safety and Health Review Commission, 1331 Pennsylvania Avenue NW, Suite 520N, Washington, DC 20004-1710. PrivacyAct@fmshrc.gov, (202) 434-9944.

AUTHORITY FOR MAINTENANCE OF THE SYSTEM:

30 U.S.C. 823, 44 U.S.C. 3101 et seq.; 5 U.S.C. 552a et seq.; 29 CFR part 2705.

PURPOSE(S) OF THE SYSTEM:

The information in this system is being collected to enable FMSHRC to carry out its responsibilities under the Privacy Act. These responsibilities include enabling FMSHRC staff to receive, track, process, and respond to Privacy Act requests and appeals; to assist in and support litigation that may arise from a Privacy Act access request, amendment request, or administrative appeal; and to carry out other responsibilities under the Privacy Act and other applicable federal laws.

CATEGORIES OF INDIVIDUALS COVERED BY THE SYSTEM:

The system covers individuals and/or their representatives who request information from FMSHRC or request amendment or correction of information contained about the subject of the record pursuant to the Privacy Act of 1974, 5 U.S.C. 552a; individuals who submit requests for information on other individuals; individuals filing an administrative appeal of a denial, in whole or in part, of any such request; and FMSHRC personnel assigned to handle such requests and appeals.

CATEGORIES OF RECORDS IN THE SYSTEM:

The system covers records received, created, and compiled in response to a Privacy Act request or administrative appeal, including: the original request; the original appeal; responses to the request or appeal; related internal memoranda; correspondence with other Federal agencies; request and appeal determinations; requests for amendment of records under the Privacy Act; and related electronic tracking data. These records may contain personal information retrieved in response to a request, including a requester's and/or their representative's contact information, such as their names, telephone numbers, and email and mailing addresses; Privacy Act case or tracking numbers; unique case identifier or other identifier assigned to the request or appeal; and office contact information of Commission employees and contractors.

RECORD SOURCE CATEGORIES:

Persons requesting information from FMSHRC or filing administrative appeals pursuant to the Privacy Act; agency employees assigned to handle processing the requests and appeals; agency records searched and identified as responsive in the process of responding to such requests; other agencies or entities that have referred to FMSHRC requests concerning FMSHRC records, or that have consulted with the Commission regarding handling of particular requests; and submitters or subjects of records or information that have provided assistance to the Commission in making access or amendment determinations.

ROUTINE USES OF RECORDS MAINTAINED IN THE SYSTEM, INCLUDING CATEGORIES OF USERS AND THE PURPOSES OF SUCH USES:

In addition to those disclosures generally permitted under 5 U.S.C. 552a(b), all or a portion of the records or information contained in this system of records may be disclosed as a routine use, as defined by 5 U.S.C. 552a(a)(7), pursuant to 5 U.S.C. 552a(b)(3), under the circumstances described below:

1. To a federal, state, or local agency or entity for the purpose of: (a) consulting with that agency or entity to enable the Commission to make a determination as to the propriety of access to or correction of information; (b) verifying the identity of an individual or the accuracy of information submitted by an individual who has requested access to or amendment of information; or (c) processing payment of fees associated with Privacy Act requests.

2. To a federal agency or entity that furnished the record or information for the purpose of: (a) permitting that agency or entity to make a decision as to access to or correction of the record or information; or (b) providing guidance or advice regarding the handling of particular requests.

3. To a third party authorized, in writing, to receive such information by the individual who is the subject of the record in order to obtain assistance for the Commission in making a determination as to access or amendment.

4. To the public pursuant to the provisions of the Freedom of Information Act (FOIA), 5 U.S.C. 552, and 29 CFR part 2702, unless it is determined that release of the information in the context of a particular case would constitute an unwarranted invasion of personal privacy.

5. To a Member of Congress or staff on behalf of and at the request of the individual who is the subject of the record.

6. To appropriate officials and employees of a federal agency or entity when the information is relevant to a decision concerning the hiring, appointment, or retention of an employee; the assignment, detail, or deployment of an employee; the issuance, renewal, suspension, or revocation of a security clearance; the execution of a security or suitability investigation; the letting of a contract; or the issuance of a license, permit, grant, or other benefit.

7. To the Office of Management and Budget or the Office of Information and Regulatory Affairs for the purpose of obtaining its advice on Privacy Act matters.

8. To an agency, organization, or individual for audit or oversight operations as authorized by law, but only such information as is necessary and relevant to such audit or oversight function when necessary to accomplish an agency function related to the system of records. Individuals provided information under this routine use are subject to the same Privacy Act requirements and limitations on disclosure as are applicable to FMSHRC officers and employees.

9. To contractors, experts, consultants, the agents thereof, and others performing or working on a contract, service, cooperative agreement, or other assignment for FMSHRC, when necessary to accomplish an agency function related to the system of records. Individuals provided information under this routine use are subject to the same Privacy Act requirements and limitations of disclosure as are applicable to FMSHRC officers and employees.

10. To an appropriate federal, state, tribal, local, or foreign agency or other appropriate authority charged with investigating or prosecuting a violation or enforcing or implementing a law, rule, regulation, or order, where a record, either on its face or in conjunction with other information, indicates a violation or potential violation of law, which includes criminal, civil, or regulatory violations and such disclosure is proper and consistent with the official duties making the disclosure.

11. To the Department of Justice, FMSHRC's outside counsel, other federal agencies conducting litigation, or in proceedings before any court, adjudicative or administrative body, when (a) FMSHRC, or (b) any employee of FMSHRC in his or her official capacity, or (c) any employee of FMSHRC in his or her individual capacity where the Department of Justice or FMSHRC has agreed to represent the employee, or (d) the United States or any agency thereof, is a party to the litigation or has an interest in such litigation, and FMSHRC determines that the records are both relevant and necessary to the litigation.

12. In an appropriate proceeding before a court, grand jury, or administrative or adjudicative body, when FMSHRC determines that the records may be relevant and necessary to the proceeding or in an appropriate proceeding before another administrative or adjudicative body when the adjudicator determines the records to be relevant and necessary to the proceeding.

13. To respond to subpoenas, specifically approved by a court, in any litigation or other proceeding, and FMSHRC determines that the records are both relevant and necessary to the litigation and the use of such records is compatible with the purpose for which FMSHRC collected the records.

14. To a federal, state, tribal, local, or foreign government agency or entity for the purpose of consulting with that agency or entity: (a) to assist in making a determination regarding redress for an individual in connection with the operations of a FMSHRC program; (b) for the purpose of verifying the identity of an individual seeking redress in connection with the operations of a FMSHRC program; or (c) for the information submitted by an individual who has requested such redress on behalf of another individual.

15. To appropriate agencies, entities, and persons when the Commission: (a) suspects or has confirmed that the security or confidentiality of information in the system of records has been compromised; (b) has determined that as a result of the suspected or confirmed compromise there is a risk of harm to economic or property interests, identity theft or fraud, or harm to the security or integrity of this system or other systems or programs (whether maintained by the Commission or another agency or entity) that rely upon the compromised information; and (c) has determined that disclosure made to such agencies, entities, and persons is reasonably necessary to assist in connection with the Commission's efforts to respond to the suspected or confirmed compromise and prevent, minimize, or remedy such harm.

16.To any Congressional Committee, subcommittee or joint committee, to the extent of matter within its jurisdiction, the Government Accountability Office, or others charged with monitoring the work of the Commission or conducting records management inspections.

17.To members of advisory committees that are created by the Commission or by Congress to render advice and recommendations to the Commission or to Congress, to be used solely in connection with their official designated functions.

18.To the National Archives and Records Administration for purposes of records management inspections conducted under the authority of 44 U.S.C. 2904 and 2906.

19.To such recipients and under such circumstances and procedures as are mandated by federal statute.

POLICIES AND PRACTICES FOR STORAGE OF RECORDS:

Records in this system are stored in electronic and/or paper format. Electronic records are stored in computerized databases on the Commission's servers as well as in secured FedRAMP-certified cloud environments. Paper records are stored in locked file rooms and/or file cabinets located in the Office of the General Counsel.

POLICIES AND PRACTICES FOR RETRIEVAL OF RECORDS:

Records are indexed and retrieved by a unique tracking number assigned to the request or appeal. Records are also retrieved by the requestor's or appellant's name, date, and the subject of the request.

POLICIES AND PRACTICES FOR RETENTION AND DISPOSAL OF RECORDS:

Records in this system are retained and disposed of in accordance with the General Records Schedules issued by the National Archives and Records Administration.

ADMINISTRATIVE, TECHNICAL, AND PHYSICAL SAFEGUARDS:

Records are safeguarded in a secured environment. The building where the records are stored has security cameras and security guard service. Access to the Commission's office in Washington, DC may be gained only by using an electronic key, which is provided only to Commission personnel. Paper records are kept in limited access areas during duty hours and in locked file cabinets and/or locked offices at all other times. Access is limited to those personnel whose official duties require access. Computerized records are safeguarded through use of information technology security controls, as dictated by the Federal Information Security Modernization Act (FISMA) and the National Institute of Standards and Technology (NIST), and access is limited to those personnel whose official duties require access. Contractors and other recipients providing services to the Commission shall be required to maintain the same or equivalent safeguards.

RECORD ACCESS PROCEDURES:

Individuals seeking to determine whether this system of records contains information about themselves or seeking access to records about themselves in this system of records should address written inquiries to: Executive Director, FMSHRC, 1331 Pennsylvania Avenue NW, Suite 520N, Washington, DC 20004-1710. For an explanation on how such requests should be drafted, refer to FMSHRC's regulations contained in 29 CFR part 2705.

CONTESTING RECORD PROCEDURES:

Individuals contesting the content of records about themselves contained in this system of records should address written inquiries to: Executive Director, FMSHRC, 1331 Pennsylvania Avenue NW, Suite 520N, Washington, DC 20004-1710. For an explanation on the specific procedures for contesting the contents of a record, refer to FMSHRC's regulations contained in 29 CFR part 2705.

NOTIFICATION PROCEDURE:

Individuals seeking notification of any records about themselves contained in this system of records should address written inquiries to: Executive Director, FMSHRC, 1331 Pennsylvania Avenue NW, Suite 520N, Washington, DC 20004-1710. For an explanation on the specific procedures for sending a notification request, refer to FMSHRC's regulations contained in 29 CFR part 2705.

EXEMPTIONS CLAIMED FOR THE SYSTEM:

None.

HISTORY:

None.

Dated: April 5, 2024.
Stacey George,
Chief FOIA Officer and Acting Senior Agency Official for Privacy, Federal Mine Safety and Health Review Commission.

[FR Doc. 2024-11625 Filed 5-24-24; 8:45 am]

BILLING CODE 6735-01-P